NUCLEAR REGULATORY COMMISSION

Sunshine Federal Register Notice

Agency Holding The Meetings: Nuclear Regulatory Commission

DATES: Weeks of August 21, 28; September 4, 11, 18, 25, 2006.

Place: Commissioners' Conference Room, 11555 Rockville Pike, Rockville, Maryland.

Status: Public and Closed.

Matters to be Considered:

Week of August 21, 2006

There are no meetings scheduled for the Week of August 21, 2006.

Week of August 28, 2006—Tentative

There are no meetings scheduled for the Week of August 28, 2006.

Week of September 4, 2006—Tentative

Wednesday, September 6, 2006

1:50 p.m.

Affirmation Session (Public) (Tentative), a. Pa'ina Hawaii, LLC, LBP-06-4, 63 NRC 99 (2006) and LBP-06-63, NRC 409 (2006). (Tentative).

Week of September 11, 2006—Tentative

Monday, September 11, 2006

9:30 a.m.

Discussion of Security Issues (Closed—Ex. 1).

1:30 p.m.

Discussion of Security Issues (Closed—Ex. 1 & 3).

Tuesday, September 12, 2006

9:30 a.m.

Meeting with Organization of Agreement States (OAS) and Conference of Radiation Control Program Directors (CRCPD), (Public Meeting) (Contact: Shawn Smith, 301-415-2620).

This meeting will be webcast live at the Web address— www.nrc.gov

1 p.m.

Discussion of Security Issues (Closed—Ex. 1).

Week of September 18, 2006—Tentative

There are no meetings scheduled for the Week of September 18, 2006.

Week of September 25, 2006—Tentative

There are no meetings scheduled for the Week of September 25, 2006.

* The schedule for Commission meetings is subject to change on short notice. To verify the status of meetings call (recording)—(301) 415-1292. Contact person for more information: Michelle Schroll, (301) 415-1662.

The NRC Commission Meeting Schedule can be found on the Internet at: www.nrc.gov/what-we-do/policy-making/schedule.html

Additional Information: Affirmation of (1) Pacific Gas & Elec. Co. (Diablo Canyon ISFSI), Docket No. 72-26-ISFSI “Motion by San Luis Obispo Mothers for Peace, Sierra Club, and Peg Pinard for Declaratory and Injunctive Relief with respect to Diablo Canyon ISFSI” and (2) AmerGen Energy Company, LLC (License Renewal for Oyster Creek Nuclear Generating Station) Docket No. 50-0219, Legal challenges to LBP-06-07 and LBP-06-11, tentatively scheduled on Thursday, August 17, 2006, was postponed and will be rescheduled.

The NRC provides reasonable accommodation to individuals with disabilities where appropriate. If you need a reasonable accommodation to participate in these public meetings, or need this meeting notice or the transcript or other information from the public meetings in another format (e.g., braille, large print), please notify the NRC's Disability Program Coordinator. Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw.@nrc.gov.

Dated: August 17, 2006.
R. Michelle Schroll,
Office of the Secretary.

[FR Doc. 06-7089 Filed 8-18-06; 10:11 am]

BILLING CODE 7590-01-M